COMMODITY FUTURES TRADING COMMISSION

Sunshine Act Meeting

This notice that an emergency meeting was held is published pursuant to the provisions of the Government in the Sunshine Act, Public Law 94-409, 5 U.S.C. 552b.

AGENCY HOLDING THE MEETINGS: Commodity Futures Trading Commission.

TIMES AND DATES: The Commission held an emergency closed meeting on November 14, 2011 at 2:15 p.m. The Commission, by a recorded unanimous vote of those members attending, determined that agency business required that business of the agency required that the meeting be held at that time. Commissioner Chilton did not participate.

PLACE: Three Lafayette Center, 1155 21st St. NW., Washington, DC, 9th Floor Commission Conference Room.

STATUS: Closed.

MATTERS CONSIDERED: Litigation matters

CONTACT PERSON FOR MORE INFORMATION: Sauntia S. Warfield, Assistant Secretary of the Commission, 202-418-5084.

Sauntia S. Warfield,
Assistant Secretary of the Commission.

[FR Doc. 2012-28382 Filed 11-19-12; 11:15 am]

BILLING CODE 6351-01-P